FARM CREDIT ADMINISTRATION

Farm Credit Administration Board; Sunshine Act; Regular Meeting

AGENCY: Farm Credit Administration.

SUMMARY: Notice is hereby given, pursuant to the Government in the Sunshine Act (5 U.S.C. 552b(e)(3)), of the regular meeting of the Farm Credit Administration Board (Board).

Date and Time: The regular meeting of the Board will be held at the offices of the Farm Credit Administration in McLean, Virginia, on October 14, 2010, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• September 8, 2010.

B. New Business

• Policy Statement on Cooperative Operating Philosophy—Serving the Members of the Farm Credit System Institutions.

• Board Resolution on Cooperative Operating Philosophy.

• Joint and Several Liability Reallocation Agreement—Notice of Approval.

• Merger of Farm Credit of North Florida, and Farm Credit of Southwest Florida, ACAs, and their subsidiaries with and into Farm Credit of South Florida, ACA, and its subsidiaries.

C. Reports

• OE Quarterly Report on the Farm Credit System.

Closed Session*

Reports

Report on Institutions' Supervisory, Enforcement, and

• Oversight Activities.

*Session Closed—Exempt pursuant to 5 U.S.C. 552b(c)(8) and (9).

Dated: October 7, 2010.
Roland E. Smith,
Secretary, Farm Credit Administration Board.

[FR Doc. 2010-25765 Filed 10-7-10; 4:15 pm]

BILLING CODE 6705-01-P